FEDERAL COMMUNICATIONS COMMISSION

[WC Docket No. 03-171; DA 07-878]

Petition of Core Communications, Inc. for Forbearance Under 47 U.S.C. Section 160(c) From Application of the ISP Remand Order

AGENCY: Federal Communications Commission.

ACTION: Notice, termination of proceeding.

SUMMARY: This document provides notice of the termination of the reconsideration of the Commission's Order denying in part and granting in part Core Communications, Inc.'s petition for forbearance from application of the ISP Remand Order. All petitions for reconsideration have been withdrawn.

DATES: Effective April 13, 2007, unless the Wireline Competition Bureau receives an opposition to the termination prior to that date.

ADDRESSES: You may submit oppositions, identified by WC Docket No. 03-171, by any of the following methods:

• Federal eRulemaking Portal: http://www.regulations.gov. Follow the instructions for submitting comments.

• Agency Web Site: http://www.fcc.gov. Follow the instructions for submitting comments on the Electronic Comment Filing System (ECFS)/http://www.fcc.gov/cgb/ecfs/.

• E-mail: To victoria.goldberg@fcc.gov. Include WC Docket 03-171 in the subject line of the message.

• Fax: To the attention of Victoria Goldberg at 202-418-1567. Include WC Docket 03-171 on the cover page.

• Mail: All filings must be addressed to the Commission's Secretary, Marlene H. Dortch, Office of the Secretary, Federal Communications Commission, 445 12th Street, SW., Washington, DC 20554. Parties should also send a copy of their filings to Victoria Goldberg, Pricing Policy Division, Wireline Competition Bureau, Federal Communications Commission, Room 5-A266, 445 12th Street, SW., Washington, DC 20554.

• Hand Delivery/Courier: The Commission's contractor, Natek, Inc., will receive hand-delivered or messenger-delivered paper filings for the Commission's Secretary at 236 Massachusetts Avenue, NE., Suite 110, Washington, DC 20002.

—The filing hours at this location are 8 a.m. to 7 p.m.

—All hand deliveries must be held together with rubber bands or fasteners.

—Any envelopes must be disposed of before entering the building.

—Commercial overnight mail (other than U.S. Postal Service Express Mail and Priority Mail) must be sent to 9300 East Hampton Drive, Capitol Heights, MD 20743.

People with Disabilities: To request materials in accessible formats for people with disabilities (braille, large print, electronic files, audio format), send an e-mail to fcc504@fcc.gov or call the Consumer & Governmental Affairs Bureau at 202-418-0530 (voice), 202-418-0432 (tty).

Instructions: All submissions received must include the agency name and docket number. All comments received will be posted without change to http://www.fcc.gov/cgb/ecfs/, including any personal information provided.

FOR FURTHER INFORMATION CONTACT: Victoria Goldberg, Wireline Competition Bureau, Pricing Policy Division, (202) 418-7353.

SUPPLEMENTARY INFORMATION: This is a summary of the Commission's Public Notice released February 27, 2007. The complete text of the Public Notice is available for inspection and copying during business hours at the FCC Reference Information Center, Portals II, 445 12th St., SW., Room CY-A257, Washington, DC 20554. The complete text of this document also may be purchased from the Commission's copy contractor, Best Copy and Printing, Inc., 445 12th Street, SW., Room, CY-B402, Washington, DC 20554. The complete text may also be downloaded at: http://www.fcc.gov.

On October 8, 2004, the Commission adopted an order granting in part and denying in part a petition for forbearance filed by Core Communications, Inc. (Core) regarding application of the Commission's ISP Remand Order (Core Forbearance Order). Two parties, SBC Communications Inc. (SBC) and Qwest Corporation (Qwest), filed petitions for reconsideration within the 30-day period established pursuant to § 1.429 of the Commission's rules. SBC filed its petition for reconsideration on November 17, 2004, and SBC's successor company, AT&T, withdrew that petition on July 18, 2006. Qwest filed a conditional petition for reconsideration on November 10, 2004 and withdrew its petition on January 23, 2007. There are no pending petitions for reconsideration of the Core Forbearance Order. Therefore, the proceeding will be terminated effective 30 days after publication of this Public Notice in the Federal Register, unless the Wireline Competition Bureau receives an opposition to the termination before that date.

Federal Communications Commission.
Thomas J. Navin,
Chief, Wireline Competition Bureau.

[FR Doc. E7-4558 Filed 3-13-07; 8:45 am]

BILLING CODE 6712-01-P